DEPARTMENT OF ENERGY

Federal Energy Regulatory Commission

[Docket No. EL06-80-000]

Michigan Public Power Agency v. Midwest Independent Transmission System Operator, Inc.; Notice of Complaint

June 27, 2006.

Take notice that on June 23, 2006, Michigan Public Power Agency (MPPA) filed a Complaint against Midwest Independent Transmission System Operator (Midwest ISO) pursuant to sections 206 and 306 of the Federal Power Act, 16 U.S.C. 824e and 825f, and Rule 206 of the Federal Energy Regulatory Commission's Rules of Practice and Procedure, 18 CFR 385.206 (2004). MPPA seeks an order from the Commission finding that: (1) The $231,828 of charges assessed by the Midwest ISO on MPPA as a result of an outage at the James H. Campbell No. 3 Generating Unit (Campbell 3) are not authorized by the Midwest ISO's Open Access Transmission and Energy Market Tariff (TEMT) and are not just and reasonable, (2) the Midwest ISO therefore violated its TEMT, the Federal Power Act and the Filed Rate Doctrine; and (3) the Midwest ISO should refund to MPPA, with interest, those charges related to the Campbell 3 outage.

MPPA certified that copies of the complaint were served on the contacts for Midwest ISO as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 13, 2006.

Magalie R. Salas,
Secretary.

[FR Doc. E6-10993 Filed 7-12-06; 8:45 am]

BILLING CODE 6717-01-P